DEPARTMENT OF HEALTH AND HUMAN SERVICES

National Institutes of Health

National Institute of Neurological Disorders and Stroke; Cancellation of Meeting

Notice is hereby given of the cancellation of the Infrastructure, Neuroinformatics, and Computational Neuroscience Subcommittee meeting scheduled on May 30, 2002, 8:00 AM to 10:00 AM, National Institutes of Health, Building 31, C Wing, Conference Room 9, 9000 Rockville Pike, Bethesda, MD, 20892 which was published in the Federal Register on May 2, 2002, 67 FR 02-10911.

Dated: May 24, 2002.
LaVerne Y. Stringfield,
Director, Office of Federal Advisory Committee Policy.

[FR Doc. 02-13725 Filed 5-30-02; 8:45 am]

BILLING CODE 4140-01-M